FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 2, 2024.

A. Federal Reserve Bank of St. Louis (Holly A. Rieser, Senior Manager) P.O. Box 442, St. Louis, Missouri 63166-2034. Comments can also be sent electronically to Comments.applications@stls.frb.org:

1. Zach John Scott McClendon; the Zach John Scott McClendon Irrevocable Trust, Zach John Scott McClendon as trustee; Robin Ann McClendon; the Robin Ann McClendon Irrevocable Trust, Robin Ann McClendon as trustee; and the Zach McClendon, Jr. Trust, Zach McClendon, Jr. as trustee, all of Monticello, Arkansas; to establish a family control group and to retain voting shares of First Union Financial Corporation, and thereby indirectly retain voting shares of Union Bank & Trust Company, both of Monticello, Arkansas.

B. Federal Reserve Bank of Atlanta (Erien O. Terry, Assistant Vice President) 1000 Peachtree Street, NE, Atlanta, Georgia 30309. Comments can also be sent electronically to Applications.Comments@atl.frb.org:

1. John Gregory Mitchell Batchelor, Russellville, Alabama, and John Bradley Batchelor Reeves, Tuscumbia, Alabama; to become members of the Batchelor Family Control Group, a group acting in concert, to retain voting shares of CBS Banc-Corp., and thereby indirectly retain voting shares of CB&S Bank, Inc., both of Russellville, Alabama.

Board of Governors of the Federal Reserve System.
Michele Taylor Fennell,
Deputy Associate Secretary of the Board.

[FR Doc. 2024-05714 Filed 3-15-24; 8:45 am]

BILLING CODE 6210-01-P